DEPARTMENT OF LABOR

Employment and Training Administration

[TA-W-41,222]

Bechtel Jacobs Company, LLC, Piketon, Ohio; Notice of Revised Determination on Remand

The United States Court of International Trade (USCIT) granted the Secretary of Labor's motion for a voluntary remand for further investigation in Paper, Allied-Industrial, Chemical and Energy International Union, Local 5-689 v. Elaine Chao, U.S. Secretary of Labor, No. 03-00356.

The Department's initial determination regarding Bechtel Jacobs Company, LLC (hereafter “Bechtel Jacobs”) was issued on July 1, 2002 and published in the Federal Register on July 18, 2002 (67 FR 47400). The determination was based on the finding that the workers did not produce an article within the meaning of section 222 of the Trade Act of 1974. The workers provided environmental management and site restoration services.

By letter dated August 15, 2002, the petitioner requested administrative reconsideration for Trade Adjustment Assistance (TAA). The reconsideration determination was issued on March 18, 2003 and published in the Federal Register on April 7, 2003 (67 FR 16837). The determination was based on the findings that the workers did not produce an article within the meaning of section 222 of the Trade Act and that the workers were not service providers in direct support of a Trade Adjustment Assistance (TAA) certified firm.

The remand investigation revealed that Bechtel Jacobs has a contract to provide on site services with a TAA certified facility (United States Enrichment Corporation (USEC), Piketon, Ohio, TA-W-41,285). The USEC, Piketon, Ohio facility was certified for TAA on June 27, 2002.

Conclusion

After careful review of the additional facts obtained on the current remand, I conclude that the worker group provided services at USEC, Piketon, Ohio, the worker group is co-located with a trade-certified firm, and there is a contract between the subject firm and the trade-certified firm. In accordance with the provisions of the Trade Act, I make the following certification:

All workers of Bechtel Jacobs Company, LLC, Piketon, Ohio, who became totally or partially separated from employment on or after March 14, 2001, through two years from the issuance of this revised determination, are eligible to apply for adjustment assistance under section 223 of the Trade Act of 1974.

Signed at Washington, DC, this 12th day of February, 2004.
Elliott S. Kushner,
Certifying Officer, Division of Trade Adjustment Assistance.

[FR Doc. E4-385 Filed 2-24-04; 8:45 am]

BILLING CODE 4510-13-P